DEPARTMENT OF THE INTERIOR

Fish and Wildlife Service

50 CFR Part 17

[FWS-R2-ES-2008-0031; 92220-1113-0000-C3]

RIN 1018-AU68

Endangered and Threatened Wildlife and Plants; Establishment of a Nonessential Experimental Population of Rio Grande Silvery Minnow in the Big Bend Reach of the Rio Grande in Texas

AGENCY: Fish and Wildlife Service, Interior.

ACTION: Proposed rule; notice of availability of draft environmental assessment; reopening of public comment period.

SUMMARY: We, the U.S. Fish and Wildlife Service (Service), announce the reopening of the public comment period on the proposed rule and draft environmental assessment regarding our proposal to establish a nonessential experimental population of Rio Grande silvery minnow (Hybognathus amarus), a Federally listed endangered fish, into its historic habitat in the Big Bend reach of the Rio Grande in Presidio, Brewster, and Terrell counties, Texas.

Comments previously submitted on the proposed rule or draft EA need not be resubmitted as they have been incorporated into the public record and will be fully considered in preparation of the final rule and final environmental assessment.

DATES: We will accept public comments received or postmarked on or before March 10, 2008.

ADDRESSES: You may submit comments by one of the following methods:

• Federal eRulemaking Portal: http://www.regulations.gov. Follow the instructions for submitting comments.

• U.S. mail or hand-delivery: Public Comments Processing, Attn: RIN 1018-AU68; Division of Policy and Directives Management; U.S. Fish and Wildlife Service; 4401 N. Fairfax Drive, Suite 222; Arlington, VA 22203.

We will not accept e-mail or faxes. We will post all comments on http://www.regulations.gov. This generally means that we will post any personal information you provide us (see the Public Comments Solicited section below for more information).

FOR FURTHER INFORMATION CONTACT: Adam Zerrenner, Field Supervisor, Austin Ecological Services Field Office, 10711 Burnet Road, Suite 200, Austin, TX 78758; telephone 512/490-0057; facsimile 512/490-0974. If you use a telecommunications device for the deaf (TDD), call the Federal Information Relay Service (FIRS) at 800-877-8339.

SUPPLEMENTARY INFORMATION:

Background and Additional Information

We propose to reestablish the Rio Grande silvery minnow under section 10(j) of the Endangered Species Act of 1973, as amended (Act), and to classify it as a nonessential experimental population (NEP) (72 FR 50918). On the Rio Grande, the geographic boundaries of the NEP would extend from Little Box Canyon downstream of Fort Quitman, Hudspeth County, Texas, through Big Bend National Park and the Rio Grande Wild and Scenic River, to Amistad Dam and the nearby railroad bridge (Big Bend reach of the Rio Grande). On the Pecos River, the geographic boundaries of the NEP would extend from the river's confluence with Independence Creek to its confluence with the Rio Grande. This proposed reestablishment is part of the recovery actions that the Service, Federal and State agencies, and other partners are conducting throughout the species' historic range. The proposed rule provides a plan for establishing the NEP and provides for limited allowable legal taking of Rio Grande silvery minnows within the defined NEP area. A draft environmental assessment (EA) has been prepared on this proposed action and is available for comment (see ADDRESSES section below).

For background and other information on the proposed rule and draft EA, refer to our notice published in the Federal Register on September 5, 2007 (72 FR 50918).

Public Comments Solicited

On September 5, 2007, we published a proposed rule, notice of availability of a draft environmental assessment, and notice of a public hearing regarding our proposal to establish a nonessential experimental population of the Rio Grande silvery minnow in the Big Bend reach of the Rio Grande in Texas (72 FR 50918). We accepted public comments regarding the proposed rule and draft environmental assessment for 60 days, ending November 5, 2007. During the comment period, we held a public hearing on October 10, 2007, in Alpine, Texas. In response to requests from interested parties, we are reopening the comment period for an additional 15 days (see DATES) to offer all interested parties an opportunity to submit data and information to be considered in developing a final rule and final EA.

We want the final rule to be as effective as possible and the final EA on the proposed action to evaluate all potential issues associated with this action. Therefore, we invite the public, Tribal and government agencies, the scientific community, industry, and other interested parties to submit comments or recommendations not previously submitted concerning any aspect of the proposed rule and the draft EA. Comments should be as specific as possible.

To issue a final rule to implement this proposed action and to determine whether to prepare a finding of no significant impact or an environmental impact statement, we will take into consideration all comments and any additional information we receive. Such communications may lead to a final rule that differs from this proposal.

You may submit your comments and materials concerning the proposed rule and draft EA by one of the methods listed in the ADDRESSES section. We will not accept comments sent by e-mail or fax or to an address not listed in the ADDRESSES section. We will not accept anonymous comments; your comments must include your first and last name, city, State, country, and postal (zip) code. Finally, we will not consider hand-delivered comments that we do not receive, or mailed comments that are not postmarked by the date specified in the DATES section. Comments must be submitted to http://www.regulations.gov before midnight (Eastern Standard Time) on the date specified in the DATES section.

We will post your entire comment—including your personal identifying information—on http://www.regulations.gov. If you provide personal identifying information in addition to the required items specified on the previous paragraph, such as your street address, phone number, or e-mail address, you may request at the top of your document we withhold this information from public review. However, we cannot guarantee that we will be able to do so.

Comments and materials we receive, as well as supporting documentation we used in preparing this proposed rule, will be available for public inspection on http://www.regulations.gov, or by appointment, during normal business hours, at the U.S. Fish and Wildlife Service, Austin Ecological Services Field Office, 10711 Burnet Road, Suite 200, Austin, TX 78758; telephone 512/490-0057.

You may obtain copies of the original proposed rule and the draft EA from the Austin Ecological Services Field Office at the address listed above or by visiting our Web site at http://www.fws.gov/southwest/es/AustinTexas/.

Author

The primary author of this notice is the staff of the U.S. Fish and Wildlife Service's Austin Ecological Services Field Office.

Authority

The authority for this action is the Endangered Species Act of 1973, as amended (16 U.S.C. 1531, et seq.).

Dated: February 14, 2008.
Kenneth Stansell,
Acting Director,U.S. Fish and Wildlife Service.

[FR Doc. E8-3385 Filed 2-21-08; 8:45 am]

BILLING CODE 4310-55-P